DEPARTMENT OF COMMERCE

National Oceanic and Atmospheric Administration

RIN 0648-XF607

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are, or remain, subject to overfishing or overfished: South Atlantic red grouper, Gulf of Mexico greater amberjack, and Northwestern Atlantic witch flounder. NMFS, on behalf of the Secretary, notifies the appropriate fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that South Atlantic red grouper is subject to overfishing and overfished. This determination is based on the most recent stock assessment (SEDAR 53), finalized in 2017, using data through 2015. This assessment supports a finding of subject to overfishing because the current estimate of fishing mortality (F) is above the maximum fishing mortality threshold (MFMT), and overfished because the spawning stock biomass estimate is less than the minimum stock size threshold (MSST). NMFS informed the South Atlantic Fishery Management Council that they must take action to end overfishing immediately on this stock and implement conservation and management measures to rebuild it.

NMFS has determined that the Gulf of Mexico greater amberjack is subject to overfishing. This determination is based on the most recent assessment (SEDAR 33 Update), finalized in 2016, using data through 2015. This assessment supports a finding of subject to overfishing because the current estimate of F is above the MFMT. This stock remains overfished because the spawning stock biomass estimate is less than the MSST. NMFS informed the Gulf of Mexico Fishery Management Council that they must take action to end overfishing immediately on this stock and implement conservation and management measures to rebuild it.

NMFS has determined that Northwestern Atlantic witch flounder is still overfished and the overfishing status is unknown. The assessment peer review panel for this stock rejected the most recent benchmark assessment, finalized in 2017, using data through 2015. However, this stock is at historical low levels and other signs of poor stock condition support this stock remaining listed as overfished. Lack of similar reliable indicators for overfishing status support changing the overfishing status of this stock to unknown. NMFS has notified the New England Fishery Management Council that they must implement conservation and management measures to rebuild this stock.

Dated: September 22, 2017.
Emily H. Menashes,
Acting Director, Office of Sustainable Fisheries, National Marine Fisheries Service.

[FR Doc. 2017-20686 Filed 9-26-17; 8:45 am]

BILLING CODE 3510-22-P